DEPARTMENT OF LABOR

Employee Benefits Security Administration

[Application Numbers D-11137, 11138, and 11139]

Hearing on Proposed Individual Exemption Involving the Northwest Airlines Pension Plan for Salaried Employees, the Northwest Airlines Pension Plan for Pilot Employees, and the Northwest Airlines Pension Plan for Contract Employees (collectively, the Plans)

AGENCY: Employee Benefits Security Administration, Department of Labor.

ACTION: Notice of hearing.

SUMMARY: Notice is hereby given that the Department of Labor will hold a hearing on May 5 and if necessary, May 6, 2003, relating to a proposed exemption from certain prohibited transaction restrictions of the Employee Retirement Income Security Act of 1974 (ERISA or the Act) and from certain taxes imposed by the Internal Revenue Code of 1986 (the Code) for the Plans. A notice of pendency of the proposed exemption was published in the Federal Register at 68 FR 2578 (January 17, 2003).

DATES: The hearing will be held on May 5 and, if necessary, May 6, 2003, beginning at 9:30 a.m., EST.

ADDRESSES: The hearing will be held at the Department of Labor, Rooms N-3437A & B, U.S. Department of Labor, 200 Constitution Avenue, NW., Washington, DC 20210.

FOR FURTHER INFORMATION CONTACT: Wendy M. McColough or Christopher Motta, Office of Exemption Determinations, Employee Benefits Security Administration, U.S. Department of Labor, telephone (202) 693-8540 (this is not a toll-free number).

SUPPLEMENTARY INFORMATION: On January 17, 2003, the Department of Labor (the Department) published in the Federal Register at 68 FR 2578 a notice of pendency of a proposed individual exemption for the Plans from the restrictions of sections 406(a), 406(b)(1) and (b)(2), and 407(a) of the Act and from the sanctions resulting from the application of section 4975 (a) and (b) of the Code, by reason of section 4975(c)(1) (A) through (E) of the Code.

In that notice, the Department invited interested persons to submit written comments and any requests for a public hearing on the proposed exemption.

As explained in the notice of pendency, the proposed exemption was requested in an application filed on behalf of Northwest Airlines, Inc. (Northwest) as plan sponsor and named fiduciary to the Plans, pursuant to section 408(a) of the Act and section 4975(c)(2) of the Code and in accordance with the procedures set forth in 29 CFR part 2570, subpart B at 55 FR 32836, 32847 (August 10, 1990). If granted, the proposed exemption would permit: (1) The in-kind contribution(s) of the common stock of either Pinnacle Airlines, Inc. or Pinnacle Airlines Corp. (Pinnacle Stock) to the Plans by Northwest, a party in interest with respect to such Plans; (2) the holding of the Pinnacle Stock by the Plans; (3) the sale of the Pinnacle Stock by the Plans to Northwest; and (4) the acquisition, holding, and exercise by the Plans of a put option (the Put Option) granted to the Plans by Northwest.

In response to the solicitation of comments from interested persons, the Department has received over 500 letters, e-mails, faxes or phone calls, of which more than 300 request that a hearing be held on the proposed exemption. The commenters expressed concern generally about the effect of the proposed exemption on the Plans. The concerns expressed generally related to the proposed contribution of Pinnacle Stock instead of a cash contribution to the Plans; the value and method of valuation of the Pinnacle Stock; the effects of the proposed transactions on the Plans; and the adequacy of the proposed safeguards that are intended to protect the Plans' interests.

The submissions received by the Department are available for public inspection in the Public Disclosure Room of the Employee Benefits Security Administration, U.S. Department of Labor, Room N-1513, 200 Constitution Avenue, NW., Washington, DC 20210.

In view of the comments requesting a hearing on the proposed exemption, the Department has decided to hold a hearing on the proposed exemption on May 5 and, if necessary, May 6, 2003 beginning at 9:30 a.m., EST, in Rooms N-3437 A & B at the Department of Labor, 200 Constitution Avenue, NW., Washington, DC.

Any interested person who wishes to be assured of an opportunity to present oral comments at the hearing should submit by 3:30 p.m., EST, April 26, 2003: (1) A written request to be heard; and (2) five copies of an outline of the topics to be discussed. The request to be heard and accompanying outline should be sent to: Office of Exemption Determinations, Room N-5649, Employee Benefits Security Administration, U.S. Department of Labor, 200 Constitution Avenue, NW., Washington, DC 20210, “Attention: Northwest Exemption Hearing.” Copies of your mailed submission may be sent by electronic mail to moffittb@pwba.dol.gov.

The Department will prepare an agenda indicating the order of presentation of oral comments. In the absence of special circumstances, each commenter will be allotted ten minutes in which to complete his or her presentation. Information about the agenda may be obtained on or after April 30, 2003 by contacting Wendy M. McColough or Christopher Motta, Office of Exemption Determinations, Employee Benefits Security Administration, U.S. Department of Labor, telephone (202) 693-8540 (this is not a toll-free number). Those individuals who make oral comments at the hearing should be prepared to answer questions regarding their comments. The hearing will be transcribed.

Notice to Interested Persons

Within fifteen (15) calendar days of publication of the Notice of Public Hearing (the Notice) in the Federal Register, Northwest shall provide notice to all participants of the Plans (including active employees, separated vested participants and retirees) by mailing first class a photocopy of the Notice. Northwest shall also provide the Notice by first class mailing to the representatives of the unions that represent employees of Northwest who currently participate in the Plans.

Notice of Public Hearing

Notice is hereby given that a public hearing will be held on May 5 and if necessary, May 6, 2003, regarding a proposed exemption from certain prohibited transaction restrictions of the Employee Retirement Income Security Act of 1974 and from certain taxes imposed by the Internal Revenue Code of 1986 for transactions involving the Northwest Airlines Pension Plan for Salaried Employees, the Northwest Airlines Pension Plan for Pilot Employees, and the Northwest Airlines Pension Plan for Contract Employees.

The hearing will be held, beginning at 9:30 a.m., EST, in Rooms N-3437 A & B at the Department of Labor, 200 Constitution Avenue, NW., Washington, DC.

Signed at Washington, DC this 4th day of March 2003.
Ivan L. Strasfeld,
Director, Office of Exemption, Determinations, Employee Benefits Security Administration, Department of Labor.

[FR Doc. 03-5613 Filed 3-10-03; 8:45 am]

BILLING CODE 4520-29-P